DEPARTMENT OF HEALTH AND HUMAN SERVICES

Centers for Disease Control and Prevention

Translation Advisory Committee for Diabetes Prevention and Control Programs: Notice of Charter Renewal

This gives notice under the Federal Advisory Committee Act (Public Law 92-463) of October 6, 1972, that the Translation Advisory Committee for Diabetes Prevention and Control Programs of the Centers for Disease Control and Prevention, of the Department of Health and Human Services, has been renewed for a 2-year period extending through June 15, 2004.

FOR FURTHER INFORMATION CONTACT: Frank Vinicor, M.D., Executive Secretary, Translation Advisory Committee for Diabetes Prevention and Control Programs, Centers for Disease Control and Prevention, of the Department of Health and Human Services, 1600 Clifton Road, NE., m/s K-10, Atlanta, Georgia 30341-3724. Telephone (770) 488-5000, or fax (770) 488-5966.

The Director, Management Analysis and Services Office, has been delegated the authority to sign Federal Register notices pertaining to announcements of meetings and other committee management activities, for both the Centers for Disease Control and Prevention and the Agency for Toxic Substances and Disease Registry.

Dated: June 21, 2002.
John Burckhardt,
Acting Director, Management Analysis and Services Office, Centers for Disease Control and Prevention.

[FR Doc. 02-16223 Filed 6-26-02; 8:45 am]

BILLING CODE 4163-18-P